FEDERAL COMMUNICATIONS COMMISSION

47 CFR Part 64

[CC Docket No. 92-105; FCC 00-257]

Require 711 Dialing for Nationwide Access to Telecommunications Relay Services; Correction

AGENCY: Federal Communications Commission.

ACTION: Correcting amendments.

SUMMARY: This document corrects certain rules of the Federal Communications Commission (Commission) that concern access to telecommunications relay services (TRS). Regulations are corrected to add a definition for “711” telephone service, and to renumber the other definitions in the section. This definition, promulgated in CC Docket No. 92-105, was inadvertently omitted by the conflicting effective dates of amendments promulgated in CC Docket No. 98-67. Regulations are corrected to add a sentence in the undesignated introductory paragraph that was promulgated in CC Docket No. 92-105 but that was inadvertently omitted by the conflicting effective date of amendments promulgated in CC Docket No. 98-67.

DATES: Effective on October 12, 2000.

FOR FURTHER INFORMATION CONTACT: Susan Magnotti, (202) 418-2320 (voice), (202) 418-0484 (TTY), smagnott@fcc.gov, Network Services Division, Common Carrier Bureau.

SUPPLEMENTARY INFORMATION:

Background

The Commission promulgated new rules to increase the type and quality of telephone relay service available to individuals with hearing and speech disabilities in CC Docket No. 98-67, Telecommunications Relay Services and Speech-to-Speech Services for Individuals with Hearing and Speech Disabilities, (released March 6, 2000), 65 FR 38432 (June 18, 2000). Some of these rules were subject to a delayed effective date of December 18, 2000. Shortly after these rules were published, the Commission promulgated new rules to establish “711” as a uniform, abbreviated dialing code for telephone relay service in CC Docket No. 92-105, The Use of N11 Codes and Other Abbreviated Dialing Arrangements, (released August 9, 2000), 65 FR 54799 (September 11, 2000). The new “711” rules were not subject to a delayed effective date, and became effective on October 11, 2000.

Need for Correction

Section 64.601's definition for “711” telephone service, added in CC Docket No. 92-105, was omitted by the later effective date of amendments to § 68.601 promulgated in CC Docket No. 98-67. This corrected amendment adds the definition back into the rule and renumbers the definitions (1) through (13) to (2) through (14).

Section 64.603 was amended in CC Docket No. 92-105 to add a sentence in the undesignated introductory paragraph that was omitted by the later effective date of amendments to § 64.603 promulgated in CC Docket No. 98-67. Accordingly, a new third sentence should be added to the undesignated introductory text of § 64.603 as follows:“ * * * In addition, each common carrier providing telephone voice transmission services shall provide, not later than October 1, 2001, access via the 711 dialing code to all relay services as a toll free call * * * .”

List of Subjects in 47 CFR Part 64

Communications common carriers, Individuals with disabilities, Relay service, Telecommunications, Telephone.

Federal Communications Commission.
Magalie Roman Salas,
Secretary.

Accordingly, 47 CFR part 64 is corrected by making the following correcting amendments:

PART 64—MISCELLANEOUS RULES RELATING TO COMMON CARRIERS

1. The authority citation for part 64 continues to read as follows:

Authority: 47 U.S.C. 154, 47 U.S.C. 225, 47 U.S.C. 251(e)(1).

2. In § 64.601, redesignate the definitions in paragraphs (1) through (13) as paragraphs (2) through (14) and add new paragraph (1) to read as follows:

§ 64.601 Definitions.

* * * * *

(1) 711. The abbreviated dialing code for accessing all types of relay services anywhere in the United States.

* * * * *

3. In § 64.603, revise the undesignated introductory text to read as follows:

§ 64.603 Provision of services.

Each common carrier providing telephone voice transmission services shall provide, not later than July 26, 1993, in compliance with the regulations prescribed herein, throughout the area in which it offers services, telecommunications relay services, individually, through designees, through a competitively selected vendor, or in concert with other carriers. Speech-to-speech relay service and interstate Spanish language relay service shall be provided by March 1, 2001. In addition, each common carrier providing telephone voice transmission services shall provide, not later than October 1, 2002, access vial the 711 dialing code to all relay services as a toll free call. A common carrier shall be considered to be in compliance with these regulations:

* * * * *

[FR Doc. 01-26942 Filed 10-25-01; 8:45 am]

BILLING CODE 6712-01-P